OFFICE OF THE UNITED STATES TRADE REPRESENTATIVE

[Docket Number USTR-2017-0010]

Request for Comments Regarding the Administration's Reviews and Report to the President on Trade Agreement Violations and Abuses

AGENCY: Office of the United States Trade Representative and the Department of Commerce

ACTION: Request for comments.

SUMMARY: Executive Order 13796 of April 29, 2017 (82 FR 20819), requires the United States Trade Representative and the Secretary of Commerce, in consultation with the Secretary of State, the Secretary of the Treasury, the Attorney General, and the Director of the Office of Trade and Manufacturing Policy, to conduct comprehensive performance reviews of all bilateral, plurilateral, and multilateral trade agreements and investment agreements to which the United States is a party and all trade relations with countries governed by the rules of the World Trade Organization (WTO) with which the United States does not have free trade agreements but with which the United States runs significant trade deficits in goods. The Office of the United States Trade Representative (USTR) and the Department of Commerce (DoC) are seeking comments that they will consider as part of these performance reviews and in the preparation of the subsequent report to the President.

DATES: Written comments are due by 11:59 p.m. (EDT) on July 31, 2017.

ADDRESSES: USTR and DoC strongly prefer electronic submissions made through the Federal eRulemaking Portal: http://www.regulations.gov. Follow the instructions for submitting comments in section II below. The docket number is USTR-2017-0010. For alternatives to on-line submissions, please contact Yvonne Jamison, Trade Policy Staff Committee, at (202) 395-3475.

FOR FURTHER INFORMATION CONTACT: For procedural questions concerning written comments, contact Yvonne Jamison at (202) 395-3475. Direct all other questions regarding this notice to Sloane Strickler, USTR Office of General Counsel, at John_Strickler@ustr.eop.gov.

SUPPLEMENTARY INFORMATION:

I. Topics on Which USTR and Commerce Seek Information

To assist USTR and DoC in conducting the performance reviews of trade agreements and preparing the report, commenters should submit information related to one or more of the following assessments:

a. The performance of individual free trade agreements (FTAs) and bilateral investment treaties (BITs) to which the United States is a party. There currently are 14 FTAs in force: https://ustr.gov/trade-agreements/free-trade-agreements.There currently are 40 BITs in force: http://tcc.export.gov/Trade_Agreements/Bilateral_Investment_Treaties/index.asp.

b. The performance of the WTO agreements with regard to our trade relations with those trading partners with which the United States does not have an FTA, but with which the United States runs significant trade deficits in goods. Consistent with the Federal Register notice regarding the Report on Significant Trade Deficits (82 FR 18110), the trading partners subject to these performance reviews are in alphabetical order: China, the European Union, India, Indonesia, Japan, Malaysia, Switzerland, Taiwan, Thailand, and Vietnam. You can find a complete list of the WTO agreements at https://www.wto.org/english/docs_e/legal_e/legal_e.htm.

c. The performance of U.S. trade preference programs. You can find a complete list of the preference programs at https://ustr.gov/issue-areas/preference-programs.

d. In commenting on assessments (a), (b), or (c), you may want to address any specific harm or benefit resulting from any agreement, treaty including:

1. Whether there have been violations or abuses of the agreement, treaty, or program that have harmed American workers or domestic manufacturers, farmers, or ranchers; harmed intellectual property rights held by U.S. companies and U.S. persons; reduced the rate of innovation in the United States; or impaired research and development from occurring in the United States.

2. Whether any unfair treatment by trade and investment partners has harmed American workers or domestic manufacturers, farmers, or ranchers; harmed intellectual property rights held by U.S. companies and U.S. persons; reduced the rate of innovation in the United States; or deterred performance of research and development in the United States.

3. Whether an agreement, treaty, or preference program listed in (a), (b), or (c) has not met predictions with regard to new jobs created, favorable effects on the trade balance, expanded market access, lowered trade barriers, or increased United States exports.

Commenters also may submit information describing benefits or opportunities created as part of these agreements, treaties, programs, and trade relations with respect to, inter alia, export opportunities for American workers or domestic manufacturers, farmers, or ranchers; lowered trade barriers; promotion of U.S. intellectual property rights holders; the rate of innovation in the United States; U.S. based research and development; protection of rights of U.S. persons investing abroad; and any other relevant information.

II. Request for Public Written Comments

USTR and DoC seek public comments with respect to the issues described in Section I. To be assured of consideration, you must submit written comments by 11:59 p.m. (EDT) on July 31, 2017. All comments must be in English and must identify on the reference line of the first page of the submission “Comments in Response to Executive Order Regarding Trade Agreements Violations and Abuses.”

USTR and DoC strongly encourage commenters to make on-line submissions, using the www.regulations.gov Web site. To submit comments via www.regulations.gov, enter docket number USTR-2017-0010 on the home page and click “search.” The site will provide a search-results page listing all documents associated with this docket. Find a reference to this notice and click on the link entitled “Comment Now!” For further information on using the www.regulations.gov Web site, please consult the resources provided on the Web site by clicking on “How to Use Regulations.gov” on the bottom of the home page. We will not accept hand-delivered submissions.

The www.regulations.gov Web site allows users to provide comments by filling in a “Type Comment” field, or by attaching a document using an “Upload File” field. USTR and DoC prefer that you provide comments as an attached document. If you attach a document, please identify the name of the country to which the submission pertains in the “Type Comment” field. For example: “See attached comments with respect to (name of trade agreement or country)”. USTR and DoC prefer submissions in Microsoft Word (.doc) or Adobe Acrobat (.pdf) format. If the submission is in another file format, please indicate the name of the software application in the “Type Comment” field. File names should reflect the name of the person or entity submitting the comments. Please do not attach separate cover letters to electronic submissions; rather, include any information that might appear in a cover letter in the comments themselves. Similarly, to the extent possible, please include any exhibits, annexes, or other attachments in the same file as the comment itself, rather than submitting them as separate files.

For any comments submitted electronically that contain business confidential information, the file name of the business confidential version should begin with the characters “BC”. Any page containing business confidential information must be clearly marked “BUSINESS CONFIDENTIAL” on the top of that page and the submission should clearly indicate, via brackets, highlighting, or other means, the specific information that is business confidential. A filer requesting business confidential treatment must certify that the information is business confidential and would not customarily be released to the public by the submitter.

Filers of submissions containing business confidential information also must submit a public version of their comments. The file name of the public version should begin with the character “P”. The “BC” and “P” should be followed by the name of the person or entity submitting the comments. Filers submitting comments containing no business confidential information should name their file using the name of the person or entity submitting the comments.

As noted, USTR and DoC strongly urge submitters to file comments through www.regulations.gov. You must make any alternative arrangements with Yvonne Jamison in advance of transmitting a comment. You can contact Ms. Jamison at (202) 395-3475. General information concerning USTR is available at www.ustr.gov and about DoC at www.commerce.gov.

We will post comments in the docket for public inspection, except business confidential information. You can view comments on the www.regulations.gov Web site by entering the relevant docket number in the search field on the home page.

Edward Gresser,
Chair of the Trade Policy Staff Committee, Office of the United States Trade Representative.

[FR Doc. 2017-13610 Filed 6-28-17; 8:45 am]

BILLING CODE 3290-F7-P